NATIONAL SCIENCE FOUNDATION

Proposal Review Panel in Earth Sciences; Notice of Meeting

In accordance with the Federal Advisory Committee Act (Pub. L. 92-463, as amended), the National Science Foundation announces the following meeting:

Name: Earth Sciences Proposal Review Panel (1569).

Date & Time: April 1-3, 2009; 8:30 a.m.-5 p.m. each day.

Place: Stafford I Conference Center, National Science Foundation, 4201 Wilson Blvd., Room 770, Arlington, VA 22230.

Type of Meeting: Part-Open—see Agenda, below.

Contact Person: Dr. David Lambert, Program Director, Instrumentation & Facilities Program, Division of Earth Sciences, National Science Foundation, 4201 Wilson Boulevard, Arlington, VA 22230. Telephone: (703) 292-8558.

Purpose of Meeting: To carry out review of IRIS management and leadership as stipulated in cooperative agreement EAR-0552316.

Agenda

Closed:

April 1 from 8:30 a.m.-9:30 a.m.: Organization meeting, introductions, review of charge to review panel, discussion of COI; and 1 p.m.-5 p.m.: panel discussion, write up of summary of findings and recommendations.

April 2 from 8:30 a.m.-5 p.m.: Write up of summary of findings and recommendations;

April 3 from 8:30 a.m.-5 p.m.: Complete panel summary and recommendations.

Open:

April 1 from 9:30 a.m.-12 a.m.: Presentation by IRIS management and Q&A between panel and IRIS.

Reason for Closing: During the closed sessions, the panel will be reviewing information of a proprietary or confidential nature, including technical information, financial data such as salaries, and personal information that could harm individuals if they are disclosed. If discussions were open to the public, these matters that are exempt under 5 U.S.C. 552b(c)(4) and (6) of the Government in the Sunshine Act would be improperly disclosed.

Dated: February 24, 2009.
Susanne Bolton,
Committee Management Officer.

[FR Doc. E9-4187 Filed 2-26-09; 8:45 am]

BILLING CODE 7555-01-P